DEPARTMENT OF TRANSPORTATION

Surface Transportation Board

[Docket No. EP 728]

Policy Statement on Implementing Intercity Passenger Train On-Time Performance and Preference Provisions of 49 U.S.C. 24308(c) and (f)

AGENCY: Surface Transportation Board, DOT.

ACTION: Notice of Proposed Statement of Board Policy.

SUMMARY: The Surface Transportation Board (Board) is issuing a proposed Policy Statement to provide guidance to the public regarding complaint proceedings under 49 U.S.C. 24308(f) and related issues under 49 U.S.C. 24308(c). The Board seeks public comment on the proposed Policy Statement, and may revise it, as appropriate, after consideration of the comments received.

DATES: Comments on the proposed Policy Statement are due February 22, 2016. Reply comments are due March 14, 2016.

FOR FURTHER INFORMATION CONTACT: Scott M. Zimmerman, (202) 245-0386. [Assistance for the hearing impaired is available through the Federal Information Relay Service (FIRS) at 1-800-877-8339.]

SUPPLEMENTARY INFORMATION: Additional information is contained in the Board's decision. Board decisions and notices are available on our Web site at WWW.STB.DOT.GOV.

Decided: December 16, 2015.
By the Board, Chairman Elliott, Vice Chairman Begeman, and Commissioner Miller.
Brendetta S. Jones,
Clearance Clerk.

[FR Doc. 2015-32412 Filed 12-24-15; 8:45 am]

BILLING CODE 4915-01-P